DEPARTMENT OF ENERGY

Federal Energy Regulatory Commission

[Docket No. RM07-16-000]

Filing via the Internet; Notice of Additional File Formats for efiling

Take notice that the Commission has added to its list of acceptable file formats the four-character file extensions for Microsoft Office 2007/2010, specifically MS Word (.docx), MS Excel (.xlsx), and MS PowerPoint (.pptx). It is no longer necessary to save files from Office 2007 or Office 2010 in an Office 2003 format prior to submission.

Dated: July 15, 2011.
Kimberly D. Bose,
Secretary.

[FR Doc. 2011-18446 Filed 7-20-11; 8:45 am]

BILLING CODE 6717-01-P